FEDERAL RESERVE SYSTEM

12 CFR Part 226

Truth in Lending (Regulation Z)

CFR Correction

In Title 12 of the Code of Federal Regulations, Parts 220 to 299, revised as of January 1, 2006, on page 284, in § 226.7, the last sentence of paragraph (f) is corrected to read as follows:

§ 226.7 Periodic statement.

* * * * *

(f) * * * If there is more than one periodic rate, the amount of the finance charge attributable to each rate need not be separately itemized and identified.

* * * * *

[FR Doc. 06-55519 Filed 5-26-06; 8:45 am]

BILLING CODE 1505-01-D